DEPARTMENT OF COMMERCE

Patent and Trademark Office

Disclosure Document Program

ACTION: Proposed collection; comment request.

SUMMARY: The United States Patent and Trademark Office (USPTO), as part of its continuing effort to reduce paperwork and respondent burden, invites the general public and other Federal agencies to take this opportunity to comment on the continuing and proposed information collection, as required by the Paperwork Reduction Act of 1995, Public Law 104-13 (44 U.S.C. 3506(c)(2)(A)).

DATES: Written comments must be submitted on or before October 18, 2004.

ADDRESSES: You may submit comments by any of the following methods:

• E-mail: Susan.Brown@uspto.gov. Include “0651-0030 comment” in the subject line of the message.

• Fax: 703-308-7407, marked to the attention of Susan Brown.

• Mail: Susan K. Brown, Records Officer, Office of the Chief Information Officer, Office of Data Architecture and Services, Data Administration Division, U.S. Patent and Trademark Office, P.O. Box 1450, Alexandria, VA 22313-1450.

FOR FURTHER INFORMATION CONTACT: Requests for additional information should be directed to the attention of Robert J. Spar, Director, Office of Patent Legal Administration, U.S. Patent and Trademark Office, P.O. Box 1450, Alexandria, VA 22313-1450; by telephone at 703-308-5107; or by e-mail at bob.spar@uspto.gov.

SUPPLEMENTARY INFORMATION:

I. Abstract

A service provided by the USPTO is the acceptance and preservation for two years of a “disclosure document” as evidence of the date of conception of an invention. A disclosure document is a paper disclosing an invention, signed by the inventor or inventors, and submitted to the USPTO. The document should contain a clear and complete explanation of the manner and process of making and using the invention in sufficient detail to enable a person having ordinary knowledge in the field of the invention to make and use the invention. The disclosure document request must be accompanied by a separate signed cover letter stating that it is submitted by, or on behalf of, the inventor, and requesting that the material be received into the Disclosure Document Program. These documents will be kept in confidence by the USPTO without publication in accordance with 35 U.S.C. 122(b).

The disclosure document will be preserved by the USPTO for two years after its receipt, and then destroyed unless it is referred to in a separate letter in a related patent application filed within the two year period. The disclosure document is not a patent application, and the date of its receipt in the USPTO will not become the effective filing date of any patent application subsequently filed.

The information supplied to the USPTO by an applicant seeking to prove the date of conception for an invention is used by the USPTO as evidence of the date of conception of an invention.

There is one form associated with this information collection, Form PTO/SB/95, Disclosure Document Deposit Request.

II. Method of Collection

By mail, facsimile, or hand carried to the USPTO when the inventor desires to participate in the Disclosure Document Program.

III. Data

OMB Number: 0651-0030.

Form Number(s): PTO/SB/95.

Type of Review: Extension of a currently approved collection.

Affected Public: Individuals or households; business or other for-profit; not-for-profit institutions; farms; the Federal government; and State, local or tribal governments.

Estimated Number of Respondents: 22,225 responses.

Estimated Time Per Response: The USPTO estimates that it will take the public approximately 12 minutes, depending upon the complexity of the situation, to gather, prepare, and submit a disclosure document deposit request.

Estimated Total Annual Respondent Burden Hours: 4,445 hours.

Estimated Total Annual Respondent Cost Burden: $1,271,270. The USPTO expects that the information in this collection will be prepared by attorneys. Using the professional hourly rate of $286 per hour for associate attorneys in private firms, the USPTO estimates that the respondent cost burden for submitting the information in this collection will be $1,271,270 per year.

Item | Estimated time for response | Estimated annual responses | Estimated annual burden hours
Disclosure Document Deposit Request | 12 minutes | 22,225 | 4,445
TOTAL |  | 22,225 | 4,445

Estimated Total Annual Non-hour Respondent Cost Burden: $235,585. There are no capital start-up, maintenance or recordkeeping costs associated with this information collection.

There is annual non-hour cost burden in the way of a filing fee for the disclosure document deposit request. Following is a chart listing this filing fee/non-hour cost burden. The total annual filing fee/non-hour cost burden is estimated to be $222,250.

Item | Responses (a) | Filing fee ($) (b) | Total non-hour cost burden (a) × (b)
Disclosure Document Deposit Request | 22,225 | $10.00 | $222,250.00
TOTAL | 22,225 | 10.00 | 222,250.00

Customers may incur postage costs when submitting the information in this collection to the USPTO by mail. The USPTO estimates that the average first-class postage cost for a mailed submission will be 60 cents and that up to 22,225 submissions will be mailed to the USPTO per year. The total estimated postage cost for this collection is $13,335.

The total non-hour respondent cost burden for this collection in the form of filing fees and postage costs is estimated to be $235,585.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized or included in the request for OMB approval of this information collection; they will also become a matter of public record.

Dated: August 12, 2004.
Susan K. Brown,
Records Officer, USPTO, Office of the Chief Information Officer, Office of Data Architecture and Services, Data Administration Division.

[FR Doc. 04-18929 Filed 8-17-04; 8:45 am]

BILLING CODE 3510-16-P